LEGAL SERVICES CORPORATION

Sunshine Act Meeting

DATE AND TIME: The Legal Services Corporation's Board of Directors and its six committees will meet January 21-23, 2018. On Sunday, January 21, the first meeting will commence at 12:30 p.m., Central Standard Time (CST), with the meetings thereafter commencing promptly upon adjournment of the immediately preceding meeting. On Monday, January 22, the first meeting will commence at 8:30 a.m. CST with the next meeting commencing promptly upon adjournment of the immediately preceding meeting. On Tuesday, January 23, the first meeting will commence at 9:45 a.m., CST and will be followed by the closed session meeting of the Board of Directors that will commence promptly upon adjournment of the prior meeting.

LOCATION: The Hilton Nashville Downtown, 121 Fourth Avenue South, Nashville, Tennessee 37201.

PUBLIC OBSERVATION: Unless otherwise noted herein, the Board and all committee meetings will be open to public observation. Members of the public who are unable to attend in person but wish to listen to the public proceedings may do so by following the telephone call-in directions provided below.

Call-In Directions for Open Sessions

• Call toll-free number: 1-866-451-4981;

• When prompted, enter the following numeric pass code: 5907707348;

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule
| Time *
Sunday, January 21, 2018:
1. Operations & Regulations Committee | 12:30 p.m.
2. Governance and Performance Review Committee
3. Combined Audit and Finance Committees
4. Audit Committee
5. Finance Committee
Monday, January 22, 2018:
1. Institutional Advancement Committee | 8:30 a.m.
2. Communications Subcommittee Committee
3. Delivery of Legal Services Committee
Tuesday, January 23, 2018:
1. Board of Directors | 9:30 a.m.

STATUS OF MEETING: Open, except as noted below.

* Please note that all times in this notice are in Central Standard Time.

Board of Directors—Open, except that, upon a vote of the Board of Directors, a portion of the meeting may be closed to the public to hear briefings by management and LSC's Inspector General, and to consider and act on the General Counsel's report on potential and pending litigation involving LSC, and on a list of prospective funders.**

** Any portion of the closed sessionc consisting solely of briefings does not fall within the Sunshine Act's definition of the term “meeting” and, therefore, the requirements of the Sunshine Act do not apply to such portion of the closed session. 5 U.S.C. 552b(a)(2) and (b). See also 45 C.F.R. 1622.2 & 1622.3.

Combined Audit and Finance Committee—Open, except that, upon a vote of the Board of Directors, the meeting may be closed to the public to hear a briefing from the Corporation's Auditor.**

Audit Committee—Open, except that the meeting may be closed to the public to hear a briefing on the Office of Compliance and Enforcement's active enforcement matters.**

Institutional Advancement Committee—Open, except that, upon a vote of the Board of Directors, the meeting may be closed to the public to consider and act on recommendation of new Leaders Council invitees and to receive a briefing on the development activities.**

A verbatim written transcript will be made of the closed session of the Board, Institutional Advancement Committee, Audit Committee, and Combined Audit and Finance Committee meetings. The transcript of any portions of the closed sessions falling within the relevant provisions of the Government in the Sunshine Act, 5 U.S.C. 552b(c)(6) and (10), will not be available for public inspection.

A copy of the General Counsel's Certification that, in his opinion, the closing is authorized by law will be available upon request.

Matters To Be Considered

January 21, 2018

Operations & Regulations Committee

Open Session

1. Approval of agenda

2. Approval of minutes of the Committee's Open Session meeting of October 15, 2017

3. Consider and act on Proposed Rulemaking to repeal 45 CFR parts 1603—State Advisory Councils

• Ron Flagg, General Counsel and Vice President for Legal Affairs

• Stefanie Davis, Assistant General Counsel

• Zoe Osterman, Law Fellow

4. Consider and act on Proposed Rulemaking to adopt a Touhy rule for LSC's process to respond to subpoenas

• Ron Flagg, General Counsel and Vice President for Legal Affairs

• Stefanie Davis, Assistant General Counsel

• Kristin Martin, Law Fellow

5. Update on Implementation of Revised 45 CFR parts 1630 and 1631 Regarding Costs and Acquisitions

• Ron Flagg, General Counsel and Vice President for Legal Affairs

• Stefanie Davis, Assistant General Counsel

6. Update on Consideration of Opening Rulemaking to Revise 45 CFR part 1607—Governing Bodies

• Ron Flagg, General Counsel and Vice President for Legal Affairs

• Stefanie Davis, Assistant General Counsel

7. Discussion of future reports to the Committee by the Director of the Office of Date Governance and Analysis

• Carlos Manjarrez, Director, Office of Data Governance and Analysis

8. Discussion of Committee's evaluations for 2017 and goals for 2018

9. Discussion of Management's report on implementation of the Strategic Plan 2017-2020

• Jim Sandman, President

10. Public comment

11. Consider and act on other business

12. Consider and act on adjournment of meeting

January 21, 2018

Governance and Performance Review Committee

Open Session

1. Approval of agenda

2. Approval of minutes of the Committee's Open Session meeting on October 16, 2017

3. Discussion of Board and Committee Evaluations

a. Staff Report on 2017 Board and Committee Evaluations

b. Discussion of Governance and Performance Committee's evaluations for 2017 and the Committee's goals for 2018

• Carol Bergman, Vice President for Government Relations & Public Affairs

4. Discussion of President's Evaluation 2017

5. Discussion of the Inspector General's FY 2017 activities

6. Report on foundation grants and LSC's research agenda

• Jim Sandman, President

7. Report on transition

• Ron Flagg, General Counsel and Vice President for Legal Affairs

• Carol Bergman, Vice President for Government Relations & Public Affairs

8. Consider and act on other business

9. Public comment

10. Consider and act on adjournment of meeting

January 21, 2018

Combined Audit & Finance Committee

Open Session

1. Approval of agenda

2. Presentation of the Fiscal Year (FY) 2017 Annual Financial Audit

• John Seeba, Assistant Inspector General for Audits

• Millie Seijo, Castro & Company

3. Consider and act on Resolution 2018-XXX, Acceptance of the Draft Financial Statements for Fiscal Year 2017

4. Presentation of Financial Report for FY 2017

5. Review of LSC's Form 990 for FY 2017

6. Public comment

7. Consider and act on other business

8. Consider and act on motion to adjourn the Open Session Meeting and proceed to a Closed Session

Closed Session

9. Communication by Corporate Auditor with those charged with governance under Statement on Auditing Standard 114

• Jeffrey Schanz, Inspector General

• John Seeba, Assistant Inspector General for Audits

• Millie Seijo, Castro & Company

10. Consider and act on motion to adjourn the meeting

January 21, 2018

Audit Committee

Open Session

1. Approval of agenda

2. Approval of minutes of the Committee's Open Session meeting on October 15, 2017

3. Discussion of Committee's evaluations for 2017 and the Committee's Goals for 2018

4. Committee review of charter responsibilities and development of work plan

5. Briefing of Office of Inspector General

• Jeffrey Schanz, Inspector General

6. Pursuant to Section VIII(C)(5) of the Committee Charter, review LSC's and the Office of Inspector General's mechanisms for the submission of confidential complaints

• Jeffrey Schanz, Inspector General

• Lora Rath, Director, Office of Compliance and Enforcement

7. Management update regarding risk management

• Ron Flagg, General Counsel and Vice President for Legal Affairs

8. Briefing about follow-up by the Office of Compliance and Enforcement on referrals by the Office of Inspector General regarding audit reports and annual Independent Public audits of grantees

• Jeffrey Schanz, Inspector General

• Lora Rath, Director of Compliance and Enforcement

• John Seeba, Assistant IG for Audits

9. Public comment

10. Consider and act on other business

11. Consider and act on motion to adjourn the open session meeting and proceed to a closed session

Closed Session

12. Approval of minutes of the Committee's Closed Session meeting of October 15, 2017

13. Briefing by the Office of Compliance and Enforcement on active enforcement matter(s) and follow-up to open investigation referrals from the Office of Inspector General

• Lora Rath, Director of Compliance and Enforcement

14. Consider and act on adjournment of meeting

January 21, 2018

Finance Committee

Open Session

1. Approval of agenda

2. Approval of minutes of the Committee's Open Session meeting on October 16, 2017

3. Discussion of Committee's evaluations for 2017 and the Committee's goals of 2018

4. Presentation of LSC's Financial Report for the first two months of FY 2018

• David Richardson, Treasurer/Comptroller

5. Discussion of LSC's FY 2018 appropriations request

• Carol Bergman, Vice President for Government Relations & Public Affairs

6. Consider and act on LSC's Revised Operating Budget for FY 2018, Resolution #2017-XXX

• David Richardson, Treasurer and Comptroller

7. Discussion of LSC's FY 2019 appropriations request

• Carol Bergman, Director of Government Relations & Public Affairs

8. Report on the Selection of Accounts and Depositories for LSC Funds

• David Richardson, Treasurer/Comptroller

9. Public comment

10. Consider and act on other business

11. Consider and act on adjournment of meeting

January 22, 2018

Institutional Advancement Committee

Open Session

1. Approval of agenda

2. Approval of minutes of the Committee's Open Session meeting of October 15, 2017

3. Discussion of Committee's evaluations for 2017 and the Committee's goals of 2018

4. Update on Leaders Council

• John G. Levi, Chairman of the Board

5. Development report

• Nadia Elguindy, Director of Institutional Advancement

6. Consider and act on updating Institutional Advancement Protocols

• Nadia Elguindy, Director of Institutional Advancement

• Ron Flagg, Vice President for Legal Affairs, General Counsel and Corporate Secretary

7. Consider and act on Resolution #2018-XXX, Expenditure of Private Funds to Support Public Awareness Campaign for Business Community

• Jim Sandman, President

8. Public Comment

9. Consider and act on other business

10. Consider and act on motion to adjourn the open session meeting and proceed to a closed session

Closed Session

11. Approval of minutes of the Committee's Closed Session meeting of October 15, 2017

12. Development activities report

13. Consider and act on motion to approve Leaders Council invitees

14. Consider and act on other business

15. Consider and act on motion to adjourn the meeting

January 22, 2018

Communications Subcommittee of the Institutional Advancement Committee

Open Session

1. Approval of agenda

2. Approval of minutes of the Subcommittee's Open Session meeting of October 15, 2017

3. Discussion of Subcommittee's evaluations for 2017 and the Subcommittee's goals for 2018

4. Communications analytics update

• Carl Rauscher, Director of Communications and Media Relations

5. Public comment

6. Consider and act on other business

7. Consider and act on motion to adjourn the meeting

January 22, 2018

Delivery of Legal Services Committee

Open Session

1. Approval of agenda

2. Approval of minutes of the Committee's Open Session meeting on October 15, 2017

3. Discussion of Committee's evaluations for 2017 and the Committee's goals for 2018

4. Discussion of future topics for Delivery of Legal Services Committee panel presentations

5. Panel presentation on online intake and triage

• Ashley Holliday, Deputy General Counsel, Est Tennessee Legal Services

• Iliana Sanchez-Bryson, Chief Information Officer, Greater Miami Legal Services

• Angela Tripp, Director, Michigan Legal Help Program, and Technology Grants Manager, Michigan Advocacy Program

6. Public comment

7. Consider and act on other business

8. Consider and act on motion to adjourn the meeting

January 23, 2018

Board of Directors

Open Session

1. Pledge of Allegiance

2. Approval of agenda

3. Approval of minutes of the Board's Open Session meeting of October 17, 2017

4. Approval of minutes of the Board's Open Session telephonic meeting of November 28, 2017

5. Consider and act on nomination for the Chairman of the Board Directors

6. Consider and act on nominations for the Vice Chairman of the Board of Directors

7. Chairman's Report

8. Members' Report

9. President's Report

10. Inspector General's Report

11. Consider and act on the report of the Operations and Regulations Committee

12. Consider and act on the report of the Governance and Performance Review Committee

13. Consider and act on the Combined Audit and Finance Committee

14. Consider and act on the report of the Audit Committee

15. Consider and act on the report of the Finance Committee

16. Consider and act on the report of the Institutional Advancement Committee

17. Consider and act on the report of the Delivery of Legal Services Committee

18. Public comment

20. Consider and act on other business

21. Consider and act on whether to authorize an executive session of the Board to address items listed below, under Closed Session

Closed Session

22. Approval of minutes of the Board's Closed Session meeting of October 17, 2017

23. Briefing by Management

24. Briefing by Inspector General

25. Consider and act on General Counsel's report on potential and pending litigation Involving LSC

26. Consider and act on list of prospective Leaders Council members

27. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC website, at http://www.lsc.gov/board-directors/meetings/board-meeting-notices/non-confidential-materials-be-considered-open-session.

ACCESSIBILITY: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: January 11, 2018.
Katherine Ward,
Executive Assistant to the Vice President for Legal Affairs, General Counsel & Corporate Secretary.

[FR Doc. 2018-00698 Filed 1-11-18; 4:15 pm]

BILLING CODE 7050-01-P